DEPARTMENT OF ENERGY

Extension of a Currently Approved Information Collection for the Weatherization Assistance Program

AGENCY: Office of Energy Efficiency and Renewable Energy, U.S. Department of Energy.

ACTION: Notice and request for comments.

SUMMARY: The Department of Energy (DOE), pursuant to the Paperwork Reduction Act of 1995), intends to extend for three years, an information collection request with the Office of Management and Budget (OMB). The information collection request, Historic Preservation for Energy Efficiency Programs, was initially approved on December 1, 2010 under OMB Control No. 1910-5155 and expired on September 30, 2015. The reinstatement will allow DOE to continue data collection on the status of the Weatherization Assistance Program (WAP), the State Energy Program (SEP), and the Energy Efficiency and Conservation Block Grant (EECBG) program

DATES: Comments regarding this propose information collection must be received on or before January 14, 2019. If you anticipate difficulty in submitting comments within that period, contact the person listed below as soon as possible.

ADDRESSES: Written comments may be sent to: Christine Askew, EE-5W, U.S. Department of Energy, 1000 Independence Ave. SW, Washington, DC 20585, Email: Christine.Askew@ee.doe.gov.

FOR FURTHER INFORMATION CONTACT: Requests for additional information or copies of the information collection instrument and instructions should be directed to: Christine Askew, EE-5W, U.S. Department of Energy, 1000 Independence Ave. SW, Washington, DC 20585-1290, Phone: (202) 586-8224, Fax: (202) 287-1992, Email: Christine.Askew@ee.doe.gov.

Additional information and reporting guidance concerning the Historic Preservation reporting requirement for the WAP, SEP, and EECBG programs are available for review at: https://www.energy.gov/eere/wipo/downloads/wpn-10-12-historic-preservation-implementation.

SUPPLEMENTARY INFORMATION: Program activities will ensure compliance the National Historic Preservation Act (NHPA). Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology. This information collection request contains: (1) OMB No.: 1910-5155; (2) Information Collection Request Title: “Historic Preservation for Energy Efficiency Programs”; (3) Type of Review: Extension of a Currently Approved Information Collection; (4) Purpose: To collect information on the status of Weatherization Assistance Program, State Energy Program, and Energy Efficiency and Conservation Block Grant Program activities; (5) Annual Estimated Number of Respondents: 275; (6) Annual Estimated Number of Total Responses: 275; (7) Annual Estimated Number of Burden Hours: 662; (8) Annual Estimated Reporting and Recordkeeping Cost Burden: $0.

Statutory Authority: Title V, National Historic Preservation Act of 1966, Public Law 89-665 as amended (16 U.S.C. 470 et seq.).

Signed in Washington, DC, on October 30, 2018.
James R. Carlisle,
Operations Supervisor, Weatherization and Intergovernmental Programs, U.S. Department of Energy.

[FR Doc. 2018-24695 Filed 11-9-18; 8:45 am]

BILLING CODE 6450-01-P